NUCLEAR REGULATORY COMMISSION

10 CFR Part 72

RIN 3150-AI60

[NRC-2009-0132]

List of Approved Spent Fuel Storage Casks: HI-STORM 100 Revision 6, Confirmation of Effective Date

AGENCY: Nuclear Regulatory Commission.

ACTION: Direct final rule: Confirmation of effective date.

SUMMARY: The Nuclear Regulatory Commission (NRC) is confirming the effective date of August 17, 2009, for the direct final rule that was published in the Federal Register on June 2, 2009 (74 FR 26285). This direct final rule amended the NRC's spent fuel storage regulations in 10 CFR 72.214 to revise the HI-STORM 100 dry cask storage system listing to include Amendment No. 6 to Certificate of Compliance (CoC) Number 1014.

DATES: Effective Date: The effective date of August 17, 2009, is confirmed for this direct final rule.

ADDRESSES: Documents related to this rulemaking, including any comments received, may be examined at the NRC Public Document Room, Room O-1F23, 11555 Rockville Pike, Rockville, MD 20852.

FOR FURTHER INFORMATION CONTACT: Jayne M. McCausland, Office of Federal and State Materials and Environmental Management Programs, U.S. Nuclear Regulatory Commission, Washington, DC 20555, telephone (301) 415-6219,e-mail Jayne.McCausland@nrc.gov.

SUPPLEMENTARY INFORMATION: On June 2, 2009 (74 FR 26285), the NRC published a direct final rule amending its regulations at 10 CFR 72.214 to include Amendment No. 6 to CoC Number 1014. Amendment No. 6 modifies the CoC to add instrument tube tie rods used for pressurized water reactor 15x15 and 17x17 fuel lattices, for both intact and damaged fuel assemblies, to the approved contents of the multipurpose canister (MPC)-24, MPC-24E, MPC-24EF, MPC-32, and MPC-32F models; and to correct legacy editorial issues in Appendices A and B Technical Specifications. In the direct final rule, NRC stated that if no significant adverse comments were received, the direct final rule would become final on August 17, 2009. The NRC did not receive any comments on the direct final rule. Therefore, this rule will become effective as scheduled.

Dated at Rockville, Maryland, this 5th day of August 2009.
For the Nuclear Regulatory Commission.
Michael T. Lesar,
Chief, Rulemaking, Directives and Editing Branch, Division of Administrative Services, Office of Administration.

[FR Doc. E9-19213 Filed 8-10-09; 8:45 am]

BILLING CODE 7590-01-P